DEPARTMENT OF AGRICULTURE

Animal and Plant Health Inspection Service

[Docket No. APHIS-2011-0041]

Notice of Request for Extension of Approval of an Information Collection; Self-Certification Medical Statement

AGENCY: Animal and Plant Health Inspection Service, USDA.

ACTION: Extension of approval of an information collection; comment request.

SUMMARY: In accordance with the Paperwork Reduction Act of 1995, this notice announces the Animal and Plant Health Inspection Service's intention to request extension of approval of an information collection for self-certification medical statements.

DATES: We will consider all comments that we receive on or before August 30, 2011.

ADDRESSES: You may submit comments by either of the following methods:

• Federal eRulemaking Portal: Go to http://www.regulations.gov/#!documentDetail;D=APHIS-2011-0041-0001.

• Postal Mail/Commercial Delivery: Send your comment to Docket No. APHIS-2011-0041, Regulatory Analysis and Development, PPD, APHIS, Station 3A-03.8, 4700 River Road Unit 118, Riverdale, MD 20737-1238.

Supporting documents and any comments we receive on this docket may be viewed at http://www.regulations.gov/#!docketDetail;D=APHIS-2011-0041 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: For information on self-certification medical statements, contact Mr. Eric Williams, Human Resources Specialist, Human Resources Division, APHIS, 100 N. 6th Street, Butler Square, 5th Floor, Minneapolis, MN 55403; (612) 336-3370. For copies of more detailed information on the information collection, contact Mrs. Celeste Sickles, APHIS' Information Collection Coordinator, at (301) 851-2908.

SUPPLEMENTARY INFORMATION: Title: Self-Certification Medical Statement.

OMB Number: 0579-0196.

Type of Request: Extension of approval of an information collection.

Abstract: The Marketing and Regulatory Programs (MRP) agencies of the U.S. Department of Agriculture facilitate the domestic and international marketing of U.S. agricultural products and protect the health of domestic animal and plant resources. The MRP agencies are the Agricultural Marketing Service, the Animal and Plant Health Inspection Service (APHIS), and the Grain Inspection, Packers and Stockyards Administration. Resource management and administrative services, including human resource management, for the three MRP agencies are provided by the MRP Business Services unit of APHIS, which is the lead agency in providing administrative support for MRP.

In accordance with 5 CFR part 339, Federal agencies are authorized to obtain medical information from applicants for positions that have approved medical standards. Medical standards may be established for positions for which the duties are arduous or hazardous or require a certain level of health status or fitness.

Certain positions in MRP agencies have medical standards. MRP hires individuals each year in commodity grading and inspection positions. These employees work under dusty conditions, around moving machinery and slippery surfaces, and in areas with high noise levels. A potential employee may have direct contact with meat and dairy products, fresh or processed fruits and vegetables, and poultry products intended for human consumption; and/or cotton and tobacco products intended for human use.

The MRP agencies require a self-certification medical statement (MRP Form 5-R) from applicants for these positions regarding their fitness for the positions. The MRP agencies need this information to determine whether the applicants can perform the duties of the positions. Inability to collect this information would adversely affect the MRP agencies' ability to make employment decisions and determinations regarding an applicant's physical fitness to safely and efficiently perform assigned duties.

We are asking the Office of Management and Budget (OMB) to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.167939 hours per response.

Respondents: Applicants for MRP positions with approved medical standards.

Estimated annual number of respondents: 524.

Estimated annual number of responses per respondent: 1.

Estimated annual number of responses: 524.

Estimated total annual burden on respondents: 88 hours. (Due to averaging, the total annual burden hours may not equal the product of the annual number of responses multiplied by the reporting burden per response.)

All responses to this notice will be summarized and included in the request for OMB approval. All comments will also become a matter of public record.

Done in Washington, DC, this 27th day of June 2011.
Kevin Shea,
Acting Administrator, Animal and Plant Health Inspection Service.

[FR Doc. 2011-16597 Filed 6-30-11; 8:45 am]

BILLING CODE 3410-34-P